DEPARTMENT OF ENERGY

Federal Energy Regulatory Commission

[Docket No. RP01-21-000]

Midwestern Gas Transmission Co.; Notice of Compliance Filing

October 5, 2000.

Take notice that on October 2, 2000, Midwestern Gas Transmission Company (Midwestern), tendered for filing as part of its FERC Gas Tariff, Second Revised Volume No. 1, Third Revised Sheet No. 80 and First Revised Sheet No. 124, with an effective date of November 1, 2000.

Midwestern states that the purpose of this filing is to revise its tariff in order to modify the applicability of the right of first refusal as directed by the Commission in Order Nos. 637, 637-A, and 673-B.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-26132 Filed 10-11-00; 8:45 am]

BILLING CODE 6717-01-M